DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the proposed extension of the Disaster Unemployment Assistance (DUA) Handbook and Program Operating forms, including the ETA 90-2, Disaster Payment Activities Under the “Stafford Disaster Relief Act.” A copy of the proposed information collection request (ICR) can be obtained by contacting the office listed below in the addresses section of this notice.

DATES: Written comments must be submitted to the office listed in the addresses section below on or before August 16, 2002.

ADDRESSES: Darryl Bauman, Office of Workforce Security, Division of Unemployment Operations, U.S. Department of Labor, Room S4231, 200 Constitution Avenue, NW., Washington, DC 20210, telephone: 202-693-3218 (this is not a toll-free number) or dbauman@doleta.gov for further information.

SUPPLEMENTARY INFORMATION:

I. Background

Public Law 100-707 (Sections 410 and 423) provide for benefit assistance to “any individual unemployed as a result of a major disaster.” State Workforce Agencies (SWA's), through agreements between the states and the Secretary of Labor, act as agents of the Secretary for the purpose of providing assistance to applicants in the various States who are unemployed as a result of a major disaster. The forms in Chapters III through V, VII and X of the DUA Handbook are used in connection with the provision of this benefit assistance. In the revised DUA Handbook, as approved by OMB on 10/19/1999, we have eliminated the use of Federally-mandated DUA initial claims, weekly claims, determinations of entitlement and overpayment forms. We have permitted the SWA's to adopt forms to better accommodate the types of disasters involved and the requirements of their automated eligibility determination and payment systems. The President is directed by the Act to provide DUA through agreements with states, which in his judgment have an adequate system for administering such assistance through existing state agencies. Without the data obtained from these reports, ETA would have no grasp on the program as it is administered by the states.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

The data obtained from the Form ETA 90-2 are used by at least three organizational units within ETA. The Office of Workforce Security uses the data for evaluation of state agency performance on making payments and providing claimant services and for making required reports. The Employment Service uses the data to project funding needs in the areas of counseling, referrals to suitable work opportunities and suitable training. The Office of Financial and Administrative Management (OFAM) uses the data in accounting for the financial management of the program funds and fund transfers. In addition, the data are also used by the Federal Emergency Management Agency (FEMA), to whom the President has delegated the responsibility by Executive Order No. 12148, for administering the Act. All other forms (described above) are used by SWA's in operating the program and are not reports per se. Use of these forms by SWA's is essential to the operation of the DUA program.

Type of Review: Extension without change of currently approved collection.

Agency: Employment and Training Administration.

Title: Employment and Training Administration (ETA) Disaster Unemployment Assistance (DUA) Handbook and Program Operating Forms, Including the ETA 90-2, Disaster Payment Activities Under the “Stafford Disaster Relief Act.”

OMB Number: 1205-0051.

Agency Number(s): DUA Handbook and Program Operating Forms, including the ETA 90-2.

Affected Public: Individuals, State Governments.

Cite/reference | Total respondents | Frequency | Total responses | Average time per response | Burden hours
ETA 90-2 | 50 | 6 | 300 | ⅙ | 50
Initial Application | ® 11,000 | 1 | 11,000 | ⅙ | 1,833
Supplemental to Initial Application (self-empl.) | ® 3,800 | 1 | 3,800 | ⅙ | 633
Weekly Claim | ® 11,000 | *6 | 66,000 | 1/12 | 5,500
Notice of Overpayment | 235 | 1 | 235 | ¼ | 59
Totals | 26,035 |  | 81,035 |  | 8,075

Total Burden Cost (capital/startup): $0.00.

Total Burden Cost (operating/maintaining): $0.00.

Comments submitted in response to this comment request will be summarized and/or included in the request for Office of Management and Budget approval of the information collection request; they will also become a matter of public record.

Dated: June 7, 2002.
Grace Kilbane,
Administrator, Office of Workforce Security.

[FR Doc. 02-15163 Filed 6-14-02; 8:45 am]

BILLING CODE 4510-30-P